DEPARTMENT OF AGRICULTURE

Forest Service

Olympic Provincial Advisory Committee

AGENCY: Forest Service, USDA.

ACTION: Notice of meeting.

SUMMARY: The Olympic Province Advisory Committee (OPAC) will meet on Friday, February 18, 2005. The meeting will be held at the Jamestown S'Klallam Tribal Conference Center, Highway 101, Blyn, Washington. The meeting will begin at 9:30 a.m. and end at approximately 3:30 p.m. Agenda topics are: Current status of key Forest issues; 2004 Planning Rule update; NW Forest Plan Land Use Designations and appropriate management activities; Hood Canal District 2005 Program of Work; Forest Law Enforcement Issues; Open forum; and Public comments.

All Olympic Province Advisory Committee Meetings are open to the public. Interested citizens are encouraged to attend.

FOR FURTHER INFORMATION CONTACT: Direct questions regarding this meeting to Ken Eldredge, Province Liaison, USDA, Olympic National Forest Headquarters, 1835 Black Lake Blvd., Olympia, WA 98512-5623, (360) 956-2323 or Dale Hom, Forest Supervisor, at (360) 956-2301.

Dated: January 18, 2005.
Dale Hom,
Forest Supervisor, Olympic National Forest.

[FR Doc. 05-1291 Filed 1-24-05; 8:45 am]

BILLING CODE 3410-11-M